DEPARTMENT OF HOUSING AND URBAN DEVELOPMENT

[Docket No. FR-6415-D-01]

Order of Succession for the Office of Public and Indian Housing

AGENCY: Office of Public and Indian Housing, U.S. Department of Housing and Urban Development (HUD).

ACTION: Notice of order of succession.

SUMMARY: In this notice, the Principal Deputy Assistant Secretary designates the order of succession for the Office of Public and Indian Housing (PIH). This order of succession revokes and supersedes all prior orders of succession for the Office of Public and Indian Housing, including the Order of Succession published in the Federal Register on April 7, 2015.

DATES: Applicable Date: TBD.

FOR FURTHER INFORMATION CONTACT: Michael Stettes, Office of Policy, Program and Legislative Initiatives, Office of Public and Indian Housing, Department of Housing and Urban Development, 451 7th St. SW, Washington, DC 20410, email address Michael.C.Stettes@hud.gov, telephone 202-402-5983. HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION: The Principal Deputy Assistant Secretary is issuing this order of succession of officials authorized to perform the duties and functions of the Office of the Assistant Secretary for Public and Indian Housing when the Assistant Secretary is not available to exercise the powers or perform the duties of the office. This Order of Succession is subject to the provisions of the Federal Vacancies Reform Act of 1998 (5 U.S.C. 3345-3349d). This publication revokes and supersedes all prior orders of succession for the Office of Public and Indian Housing, including the order of succession published in the Federal Register on April 7, 2015 (80 FR 18644).

Section A. Order of Succession

Subject to the provisions of the Federal Vacancies Reform Act of 1998 (5 U.S.C. 3345 et seq.,) during any period when, by reason of absence, disability, or vacancy in office, the Assistant Secretary for PIH is not available to exercise the powers or perform the duties of the Assistant Secretary for PIH, the following officials within PIH are hereby designated to exercise the powers and perform the duties of the Assistant Secretary for PIH. These officials shall perform the functions and duties of the office in the order specified herein, and no official shall serve unless all the other officials, whose position precedes theirs in this order, are not available to act by reason of absence, disability or vacancy in office. No individual who is serving in an office listed below in an acting capacity may act as the Assistant Secretary for Public and Indian Housing pursuant to this Order of Succession.

(1) Principal Deputy Assistant Secretary for Public and Indian Housing;

(2) General Deputy Assistant Secretary for Public and Indian Housing;

(3) Deputy Assistant Secretary for Public Housing and Voucher Programs;

(4) Deputy Assistant Secretary for Public Housing Investments;

(5) Deputy Assistant Secretary for Field Operations;

(6) Deputy Assistant Secretary for Real Estate Assessment Center;

(7) Deputy Assistant Secretary for Office of Native American Programs;

(8) Deputy Assistant Secretary for Operations

(9) Chief for Office of Policy, Programs and Legislative Initiatives

(10) Public Housing Director, Atlanta Field Office

(11) Director of the Financial Management Center, Kansas City

(12) Network Director for the Northeast for Regions I, II, III

Section B. Authority Superseded

This order of succession supersedes all prior orders of succession for the Office of Public and Indian Housing, including the order of succession published in the Federal Register on April 7, 2015, (80 FR 18644).

Authority: Section 7(d), Department of Housing and Urban Development Act, (42 U.S.C. 3535(d)).

Principal Deputy Assistant Secretary for Public and Indian Housing, Richard J. Monocchio, having reviewed and approved this document, is delegating the authority to electronically sign this document to submitter, Aaron Santa Anna, who is the Federal Register Liaison for HUD, for purposes of publication in the Federal Register.

Aaron Santa Anna,
Federal Register Liaison for the Department of Housing and Urban Development.

[FR Doc. 2023-18461 Filed 8-25-23; 8:45 am]

BILLING CODE 4210-67-P